DEPARTMENT OF THE INTERIOR

Environmental Statements; Notice of Intent: Great Falls Park, VA; General Management Plan

AGENCY: National Park Service.

ACTION: Notice of Intent of a General Management Plan/Environmental Impact Statement, Great Falls Park, Virginia.

SUMMARY: In accordance with section 102(2)(c) of the National Environmental Policy Act of 1969, the National Park Service (NPS) is preparing an Environmental Impact Statement (EIS) to assess the impacts of alternative management strategies as part of a General Management Plan (GMP) for Great Falls Park, Virginia, a unit within George Washington Memorial Parkway.

The planning effort will result in a comprehensive GMP that encompasses preservation of cultural and natural resources, visitor use and interpretation, and necessary and appropriate facilities. In cooperation with local interests, attention will also be given to resources outside the boundaries that affect the integrity of the park. Alternatives to be considered include no-action, the preferred alternative, and other alternatives addressing the following major issues:

• How can the important natural and cultural resources be best protected and preserved, while providing for visitor use for present and future generations?

• What level and type of use is appropriate to be consistent with the park's purpose, and to relate to the park's significance?

• What facilities are needed to meet the mission goals of the park regarding natural and cultural resources management, visitor use and interpretation, partnerships, and operations?

Public Involvement: Public involvement will be a key component in the preparation of the GMP/EIS. The NPS will be holding a public scoping meeting in the evening sometime during the months of November 2002, December 2002 or January 2003 at the Great Falls Visitors Center, to provide to the public an opportunity to present your ideas, questions, and concerns directly to the planning team.

The purpose of this meeting is to determine the concerns/issues that should be addressed in the GMP/EIS. Individuals unable to attend the scoping meetings may request information from the Superintendent, George Washington Memorial Parkway at the address listed below, or by checking our homepage on the Internet at the following address: http://www.nps.gov/grfa/.

Comments: If you wish to submit issues or provide input to this initial phase of developing the GMP, you may do so by any one of several methods. In addition to attending scoping meetings, you may mail comments to: Audrey F. Calhoun, Superintendent, George Washington Memorial Parkway, c/o Turkey Run Park, McLean, Virginia 22101. You may comment via the Internet to GWMP_Superintendent@nps.gov. Please submit Internet comments as an ASCII file avoiding the use of special characters and any form of encryption. Please also include “Attn: Great Falls GMP Team” and your name and return address in your Internet message. If you do not receive a confirmation from the system that we have received your Internet message, please contact Park Planner Debbie Feldman directly at telephone (703) 289-2512.

Scoping comments should be received no later than 60 days from the publication of this Notice of Intent. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Park Superintendent Audrey Calhoun, Superintendent, George Washington Memorial Parkway, c/o Turkey Run Park, McLean, Virginia 22101.

Dated: October 18, 2002.
Joseph M. Lawler,
Deputy Regional Director, National Capital Region, National Park Service.

[FR Doc. 02-32240 Filed 12-23-02; 8:45 am]

BILLING CODE 4310-70-M